DEPARTMENT OF DEFENSE

Office of the Secretary

Renewal of Department of Defense Federal Advisory Committees

AGENCY: DoD.

ACTION: Renewal of Federal Advisory Committee.

SUMMARY: The Department of Defense is publishing this notice to announce that it is renewing the charter for the Ocean Research Advisory Panel (“the Panel”).

FOR FURTHER INFORMATION CONTACT: Jim Freeman, Advisory Committee Management Officer for the Department of Defense, 703-692-5952.

SUPPLEMENTARY INFORMATION: This committee's charter is being renewed under the provisions of the Federal Advisory Committee Act of 1972 (5 U.S.C. Appendix, as amended), the Government in the Sunshine Act of 1976 (5 U.S.C. 552b) (“the Sunshine Act”), and 41 CFR 102-3.50(d).

The Panel is a nondiscretionary Federal advisory committee that shall provide independent scientific advice and recommendations to the National Ocean Research Leadership Council (“the Council”). The Council operates as the National Ocean Council (NOC) as directed by Executive Order 13547. The NOC Deputy-level Committee (“the Committee”) has assumed the statutory responsibilities of the Council. The Panel shall:

a. Provide advice on policies and procedures to implement the National Oceanographic Partnership Program.

b. Provide advice on selection of partnership projects and allocation of funds for partnership projects for implementation under the program.

c. Provide advice on matters relating to national oceanographic data requirements.

d. Fulfill any additional responsibilities that the Committee considers appropriate.

Pursuant to 10 U.S.C. 7903(b), the Panel shall report to the Committee.

The Department of Defense (DoD), through the Secretary of the Navy and the Office of Naval Research, shall provide support as deemed necessary for the Panel's performance and functions and shall ensure compliance with the requirements of the FACA, the Government in the Sunshine Act of 1976 (5 U.S.C. 552b, as amended) (“the Sunshine Act”), governing Federal statutes and regulations, and established DoD policies and procedures.

Pursuant to 10 U.S.C. 7903(a), the Panel shall consist of not less than 10 and not more than 18 members, representing the following:

a. One member who will represent the National Academy of Sciences.

b. One member who will represent the National Academy of Engineering.

c. One member who will represent the Institute of Medicine.

d. Members selected from among individuals who will represent the views on ocean industries, State Governments, academia, and such other views as the Chairs of the Committee consider appropriate.

e. Members selected from individuals who are eminent in the fields of marine science, marine policy, or related fields.

Panel members shall be appointed by the Chairs of the Committee and approved by the Secretary of Defense or the Deputy Secretary of Defense. These appointments shall be renewed on an annual basis.

Panel members who are not full-time or permanent part-time Federal officers or employees, shall be appointed to serve as experts and consultants, pursuant to 5 U.S.C. 3109, to serve as special government employee (SGE) members. Those individuals who are full-time or permanent part-time Federal officers or employees shall be appointed as regular government employee (RGE) members. With the exception of reimbursement for official Panel-related travel and per diem, Panel members shall serve without compensation.

The Secretary of Defense or the Deputy Secretary of Defense shall approve the appointment of Panel members for a term of service of one-to-four years; however, no member, unless authorized by the Secretary of Defense, may serve more than two consecutive terms of service. This same term of service limitation also applies to any DoD authorized subcommittees. Each Panel member is appointed to provide advice on behalf of the government on the basis of his or her best judgment without representing any particular point of view and in a manner that is free from conflict of interest.

The Secretary of Defense or the Deputy Secretary of Defense shall select the Chair and the Vice Chair of the Panel for a term of service of one-to-four years from among the Panel's approved membership; such appointment shall not extend past the members approved term of service. In addition, the Secretary of Defense or the Deputy Secretary of Defense may invite other distinguished government officers to serve as non-voting observers of the Panel, and appoint non-voting consultants, with special expertise, to assist the Panel on an ad hoc basis. These non-voting observers and those non-voting experts and consultants appointed by the Secretary of Defense or the Deputy Secretary of Defense shall not count toward the Panel's total membership. The Department, when necessary, and consistent with the Panel's mission and DoD policies and procedures, may establish subcommittees, task forces, or working groups as deemed necessary to support the Panel. Establishment of subcommittees will be based upon written determination, to include terms of reference, by the Secretary of Defense, the Deputy Secretary of Defense, or the Secretary of the Navy, as the DoD Sponsor.

Such subcommittees shall not work independently of the Panel, and shall report all their recommendations and advice to the Panel for full deliberation and discussion. Subcommittees have no authority to make recommendations and decisions, verbally or in writing, on behalf of the Panel; nor can any subcommittee or its members update or report directly to the DoD or any Federal officers or employees.

The Secretary of Defense or the Deputy Secretary of Defense shall appoint subcommittee members even if the individual is already a Panel member. Subcommittee members, with the approval of the Secretary of Defense or the Deputy Secretary of Defense, may serve a term of service on the subcommittee of one-to-four years; however, no member shall serve more than two consecutive terms of service on the subcommittee without approval by the Secretary of Defense or the Deputy Secretary of Defense.

Subcommittee members, if not full-time or part-time government employees, shall be appointed to serve as experts and consultants, pursuant to 5 U.S.C. 3109, to serve as SGE members, whose appointments must be renewed by the Secretary of Defense, on an annual basis. Those individuals who are full-time or permanent part-time Federal officers or employees shall serve as RGE members, subject to annual renewals. With the exception of reimbursement for official Panel-related travel and per diem, subcommittee members shall serve without compensation. All subcommittees operate under the provisions of FACA, the Sunshine Act, governing Federal statutes and regulations, and governing DoD policies and procedures.

The Designated Federal Officer (DFO), pursuant to DoD policy, shall be a full-time or permanent part-time DoD employee, and shall be appointed in accordance with established DoD policies and procedures.

In addition, the DFO is required to be in attendance at all meetings of the Panel and any subcommittees, for the entire duration of each and every meeting; however, in the absence of the DFO, a properly approved Alternate DFO, duly appointed to the Panel according to established DoD policies and procedures, shall attend the entire duration of all meetings of the Panel or its subcommittees.

The DFO or the Alternate DFO, shall call all meetings of the Panel and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Ocean Research Advisory Panel membership about the Panel's mission and functions. Written statements may be submitted at any time or in response to the stated agenda of planned meeting of Ocean Research Advisory Panel.

All written statements shall be submitted to the DFO for the Ocean Research Advisory Panel, and this individual will ensure that the written statements are provided to the membership for their consideration. Contact information for the Ocean Research Advisory Panel DFO can be obtained from the GSA's FACA Database— http://www.facadatabase.gov/.

The DFO, pursuant to 41 CFR 102-3.150, will announce planned meetings of the Ocean Research Advisory Panel. The DFO, at that time, may provide additional guidance on the submission of written statements that are in response to the stated agenda for the planned meeting in question.

Dated: April 22, 2014.
Aaron Siegel,
Alternate OSD Federal Register Liaison Officer, Department of Defense.

[FR Doc. 2014-09401 Filed 4-24-14; 8:45 am]

BILLING CODE 5001-06-P